FEDERAL TRADE COMMISSION

Granting of Request for Early Termination of the Waiting Period under the Premerger Notification Rules

Section 7A of the Clayton Act, 15 U.S.C.§ 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
March 1, 2014 thru March 31, 2014
03/04/2014
20140420 | G | Textron Inc.; Beech Holdings, LLC Textron Inc.
20140561 | G | Audax Private Equity Fund IV, L.P.; Pfingsten Partners Fund IV, L.P.; Audax Private Equity Fund IV, L.P.
20140581 | G | Microchip Technology Inc.; Supertex, Inc.; Microchip Technology Inc.
20140582 | G | Post Holdings, Inc.; Nestle S.A.; Post Holdings, Inc.
20140583 | G | Montagu IV LP; Rexam PLC; Montagu IV LP.
20140590 | G | Phillip Frost, M.D.; Opko Health Inc.; Philip Frost, M.D.
20140592 | G | GSI Group, Inc.; JADAK LLC; GSI Group, Inc.
20140596 | G | ABA Teams LLC; Spirits of St. Louis Basketball Club L.P.; ABA Teams LLC.
20140605 | G | Baytex Energy Corp.; Aurora Oil & Gas Limited; Baytex Energy Corp.
20140615 | G | Quincy Newspapers, Inc.; Silver Point Capital Fund, L.P.; Quincy Newspapers, Inc.
03/05/2014
20140449 | G | Mr. Li Li and Mrs. Li Tan; SPL Acquisition Corp.; Mr. Li Li and Mrs. Li Tan.
20140530 | G | Kotobuki Realty Co., Ltd.; Beam Inc.; Kotobuki Realty Co., Ltd.
20140568 | G | ecoserv Holdings, LLC; Newpark Resources, Inc.; ecoserv Holdings, LLC.
20140574 | G | Rond Point Immobilier SAS; Accelrys, Inc.; Rond Point Immobilier SAS.
20140599 | G | Starr International Company. Inc.; MPH Acquisition Holdings LLC; Starr International Company, Inc.
20140614 | G | OCM Opportunities ALS Holdings, L.P.; Quanex Building Products Corporation; OCM Opportunities ALS Holdings, L.P.
03/06/2014
20140587 | G | Mubadala Development Company PJSC; Advanced Micro Devices, Inc.; Mubadala Development Company PJSC.
20140595 | G | KKR & Co., L.P.; KKR Financial Holdings LLC; KKR & Co., L.P.
03/07/2014
20140556 | G | Carlyle U.S. Equity Opportunity Fund, L.P.; ECI Acquisition Holdings, Inc.; Carlyle U.S. Equity Opportunity Fund, L.P.
20140601 | G | Warren A. Hood, Jr.; Bemis Company, Inc.; Warren A. Hood, Jr.
20140611 | G | Sun Capital Partners V, L.P.; Moeller Family Limited Partnership, LLP; Sun Capital Partners V, L.P.
03/10/2014
20140537 | G | First American Financial Corporation; Verisk Analytics, Inc.; First American Financial Corporation.
20140610 | G | Marubeni Corporation; Eastern Fish Company; Marubeni Corporation.
20140621 | G | 3M Company; William P. Kelly; 3M Company.
20140625 | G | Scioto Holdings, Inc.; CCMP Capital Investors II, L.P.; Scioto Holdings, Inc.
20140626 | G | William A. Furman; The Greenbrier Companies, Inc.; William A. Furman.
20140633 | G | NRG Energy, Inc.; Dominion Resources, Inc.; NRG Energy, Inc.
20140641 | G | Dr. Guanqiu Lu; Fisker Automotive Holdings, Inc.; Dr. Guanqiu Lu.
03/11/2014
20140580 | G | Sumitomo Chemical Co., Ltd.; Edison Pharmaceuticals, Inc.; Sumitomo Chemical Co., Ltd.
20140612 | G | United Rentals, Inc.; National Pump & Compressor, Ltd.; United Rentals, Inc.
20140613 | G | Genossenschaft Constanter; Wells Fargo & Company; Genossenschaft Constanter.
20140623 | G | Blackstone Capital Partners VI L.P.; Hellman & Friedman Capital Partners VI, L.P.; Blackstone Capital Partners VI L.P.
20140629 | G | Kaman Corporation; B.W. Rogers Company; Kaman Corporation.
20140630 | G | Access Midstream Partners, L.P.; Chesapeake Energy Corporation; Access Midstream Partners, L.P.
03/12/2014
20140431 | G | Sandvik AB; Drillbit Holding Company Limited; Sandvik AB.
03/13/2014
20140604 | G | Smith & Nephew plc; ArthroCare Corporation; Smith & Nephew plc.
20140617 | G | Wells Fargo & Company; Afsaneh Beschloss; Wells Fargo & Company.
03/14/2014
20140584 | G | Entegris, Inc.; ATMI, Inc.; Entegris, Inc.
20140586 | G | Belden Inc.; Francisco Partners II (Cayman), L.P.; Belden Inc.
20140624 | G | Oracle Corporation; Blue Kai, Inc.; Oracle Corporation.
20140627 | G | PhotoMedex, Inc.; LCA-Vision Inc.; PhotoMedex, Inc.
20140639 | G | BBIP Lake AIV, L.P.; Integrys Energy Group, Inc.; BBIP Lake AIV, L.P.
20140645 | G | Crown Finance Foundation; Alvogen Aztiq Societe Civile; Crown Finance Foundation.
20140646 | G | ACON Equity Partners III, L.P.; J.H. Whitney VI, L.P.; ACON Equity Partners III, L.P.
03/18/2014
20140616 | G | Golden Gate Capital Opportunity Fund, L.P.; Zale Corporation; Golden Gate Capital Opportunity Fund, L.P.
20140649 | G | Marathon Petroleum Corporation; Explorer Pipeline Company; Marathon Petroleum Corporation.
20140650 | G | Sunoco Logistics Partners L.P.; Explorer Pipeline Company; Sunoco Logistics Partners L.P.
20140651 | G | PDM Group Holdings Corporation; Hellman & Friedman Capital Partners VI, L.P.; PDM Group Holdings Corporation.
20140655 | G | Merit Energy Company, LLC; Occidental Petroleum Corporation; Merit Energy Company, LLC.
20140656 | G | NGP Natural Resources X, L.P.; General Mills, Inc.; NGP Natural Resources X, L.P.
20140658 | G | Calumet Specialty Products Partners, L.P.; ADF Holdings, Inc.; Calumet Specialty Products Partners, L.P.
03/19/2014
20140591 | G | Safran SA; Eaton Corporation plc; Safran SA.
20140606 | G | Synopsys, Inc.; Coverity, Inc.; Synopsys, Inc.
20140642 | G | Wells Fargo & Company; k1 Ventures Limited; Wells Fargo & Company.
20140659 | G | Partners Limited; AR M?ller og Hustru Chastine Mc-Kinney; Partners Limited.
03/20/2014
20140660 | G | ARYZTA AG; Quad-C Partners VII, LP.; ARYZTA AG.
03/21/2014
20131053 | G | CoreLogic, Inc.; TPG VI Ontario 1 AIV, L.P.; CoreLogic, Inc.
03/24/2014
20140514 | G | Memorial Health System; Passavant Memorial Area Hospital Association; Memorial Health System.
20140620 | G | Grupo Bimbo, S.A.B. De C.V.; Maple Leaf Foods Inc.; Grupo Bimbo, S.A.B. De C.V.
20140640 | G | Wolters Kluwer NV.; Third Coast Holdings, Inc.; Wolters Kluwer N.V.
20140643 | G | Good Technology Corporation; Lazard Technology Partners II, LP; Good Technology Corporation.
03/25/2014
20140636 | G | Eli Lilly and Company; Paul Wesjohann & Co. GmbH III; Eli Lilly and Company.
20140662 | G | Phillips 66; Explorer Pipeline Company; Phillips 66.
20140667 | G | Kose Corporation; Encore Consumer Capital Fund, L.P.; Kose Corporation.
20140672 | G | Providence Equity Partners VII-A L.P.; New Asurion Corporation; Providence Equity Partners VII-A L.P.
20140673 | G | HGGC Fund II, L.P.; Silver Lake Partner II, L.P.; HGGC Fund II, L.P.
20140675 | G | Riverside Capital Appreciation Fund VI, L.P.; Peter P. Jenkins III; Riverside Capital Appreciation Fund VI, L.P.
20140682 | G | Audax Private Equity Fund IV, L.P.; Levine Leichtman Capital Partners IV, L.P.; Audax Private Equity Fund IV, L.P.
20140688 | G | Sun Capital Partners VI, L.P.; ESCO Technologies Inc.; Sun Capital Partners VI, L.P.
03/26/2014
20140632 | G | Marubeni Corporation; Total Finance, LLC; Marubeni Corporation.
20140652 | G | Luxor Capital Partners Offshore, Ltd.; Nicholas Schorsch; Luxor Capital Partners Offshore, Ltd.
20140653 | G | Luxor Capital Partners, LP; Nicholas Schorsch; Luxor Capital Partners, LP.
20140676 | G | AMEC plc; Foster Wheeler AG; AMEC plc.
03/27/2014
20140577 | G | Accelerate Parent Corp.; TTT Holdings, Inc.; Accelerate Parent Corp.
20140631 | G | New Mountain Partners III, L.P.; Avaya Holdings Corp.; New Mountain Partners III, L.P.
20140647 | G | Prospect Capital Corporation; Mario V. Parisi, Jr.; Prospect Capital Corporation.
20140648 | G | Prospect Capital Corporation; Jorge A. Mayo; Prospect Capital Corporation.
03/31/2014
20140690 | G | Hellman & Friedman Capital Partners VII, L.P.; Permira IV Continuing L.P. 2; Hellman & Friedman Capital Partners VII, L.P.
20140696 | G | Blackstone Capital Partners VI L.P.; Accuvant LLC; Blackstone Capital Partners VI L.P.
20140698 | Y | LLCP PCS H LP; FMC Technologies, Inc.; LLCP PCS II LP.
20140702 | G | LG Chem, Ltd.; NanoH20, Inc.; LG Chem, Ltd.
20140704 | G | Matthews International Corporation; Schawk, Inc.; Matthews International Corporation.

FOR FURTHER INFORMATION CONTACT: Renee Chapman, Contact Representative or Theresa Kingsberry, Legal Assistant, Federal Trade Commission, Premerger Notification Office, Bureau Of Competition, Room H-303, Washington, DC 20580, (202) 326-3100.

By Direction Of The Commission.
Donald S. Clark,
Secretary.

[FR Doc. 2014-08236 Filed 4-11-14; 8:45 am]

BILLING CODE 6750-01-M